DEPARTMENT OF THE INTERIOR

National Park Service

[NPS-WASO-NAGPRA-NPS0032263; PPWOCRADN0-PCU00RP14.R50000]

Notice of Inventory Completion: Fowler Museum at the University of California Los Angeles, Los Angeles, CA

AGENCY: National Park Service, Interior.

ACTION: Notice.

SUMMARY: The Fowler Museum at the University of California Los Angeles (Fowler Museum at UCLA) has completed an inventory of human remains and associated funerary objects, in consultation with the appropriate Indian tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Fowler Museum at UCLA. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Fowler Museum at UCLA at the address in this notice by August 18, 2021.

FOR FURTHER INFORMATION CONTACT: Wendy G Teeter, Ph.D., Fowler Museum at UCLA, Box 951549, Los Angeles, CA 90095-1549, telephone (310) 825-1864, email wteeter@arts.ucla.edu.

SUPPLEMENTARY INFORMATION: Notice is here given in accordance with the Native American Graves Protection and Repatriation Act (NAGPRA), 25 U.S.C. 3003, of the completion of an inventory of human remains and associated funerary objects under the control of the Fowler Museum at the University of California Los Angeles, Los Angeles, CA. The human remains and associated funerary objects were removed from San Luis Obispo County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Fowler Museum at UCLA professional staff in consultation with representatives of the Santa Ynez Band of Chumash Mission Indians of the Santa Ynez Reservation, California and three non-federally recognized Indian groups: The Barbareño/Ventureño Band of Mission Indians, the yak tityu tityu yak tiłhini—Northern Chumash Tribe, and the Salinan Tribe of San Luis Obispo and Monterey Counties (hereafter referred to as “The Consulted Tribes and Groups”).

History and Description of the Remains

In 1960, human remains representing, at minimum, one individual were removed from CA-SLO-156 in San Luis Obispo County, CA. Fred Reinman conducted excavations from June to August 1960 at this Late Period site. These excavations were conducted in association with the University of California Archaeological Survey under contract with the State Division of Beaches and Parks, which is now the Department of Parks and Recreation (State Parks). The excavations were initiated and conducted prior to the construction of a dam that would flood the site. The dam was designed and constructed by the State Department of Water Resources (DWR) during the period October 1958 to April 1961. The excavated materials were brought to UCLA Anthropology for analysis and preparation of a report for State Parks and DWR. They were curated by UCLA Anthropology until 1976, when, along with the rest of the archeological collections at UCLA Anthropology, they were transferred to the Fowler Museum. The fragmentary human remains, which were recovered from the surface of the site, belong to an adult of undetermined sex. No known individual was identified. No associated funerary objects are present.

In 1960, human remains representing, at minimum, five individuals were removed from CA-SLO-157 in San Luis Obispo County, CA. M.B. McKusick and Frances Riddell conducted excavations at this Late Period site in March of 1960, and the materials recovered from their excavations are identified as Accession 290. Fred M. Reinman conducted additional excavations at the site from June to August of 1960, and the materials recovered from his excavations are identified as Accession 292. Both excavations were conducted in association with the University of California Archaeological Survey under contract with the State Division of Beaches and Parks, which is now the Department of Parks and Recreation (State Parks). The excavations were initiated and conducted prior to the construction of the above described dam. The excavated materials were brought to UCLA Anthropology for analysis and preparation of a report for State Parks and DWR. They were curated by UCLA Anthropology until 1976, when, along with the rest of the archeological collections at UCLA Anthropology, they were transferred to the Fowler Museum. The human remains in Accession 290, Burial 1 belong to an adult, possibly male. The human remains in Accession 292, Burials 2, 3, and 4 belong to two juveniles and one infant. In addition, Accession 292 includes the fragmentary remains of an adult of indeterminate sex that were recovered from the surface of the site. No known individuals were identified. No associated funerary objects are present in Accession 290. The 78 associated funerary objects in Accession 292 include two sandstone pestles, one sandstone hammerstone, one basalt cobble, one quartzite core, one jasper projectile point, one chert chopper/scraper, three jasper retouched flakes, one chert worked flake, 48 unmodified shell fragments, three stone flakes, one chert flake, seven stone fragments, seven unmodified animal bone fragments, and one yellow ochre fragment.

In 1960, human remains representing, at minimum, one individual were removed from CA-SLO-159 in San Luis Obispo County, CA. Fred Reinman conducted excavations from June to August of 1960 at this Late Period site. These excavations were conducted in association with the University of California Archaeological Survey under contract with the State Division of Beaches and Parks, which is now the Department of Parks and Recreation (State Parks). The excavations were initiated and conducted prior to the construction of the above described dam. The excavated materials were brought to UCLA Anthropology for analysis and preparation of a report for State Parks and DWR. They were curated by UCLA Anthropology until 1976, when, along with the rest of the archeological collections at UCLA Anthropology, they were transferred to the Fowler Museum. The fragmentary human remains, which were recovered from the surface of the site, belong to an adult, possibly female. No known individual was identified. No associated funerary objects are present.

Through consultation, and consistent with ethnographic and historic documentation, the sites detailed in the above paragraphs have been determined to lie within the traditional territory of the Chumash. Moreover, the associated funerary objects in this notice are consistent with those used by groups that are ancestral to the present-day Chumash people. While the material culture of the earlier groups living in the area has passed through stages over the past 10,000 years, according to many local archeologists, these changes reflect evolving ecological adaptations and related developments in social organization of the same populations, rather than population displacements or movements, and explain why the same range of artifact types and materials were used from the early pre-contact period until historic times. Similarly, Native consultants explicitly state that population mixing (which did occur on a small scale) would not alter the continuity of the shared group identities of people associated with specific locales. Consequently, continuity through time can be traced between the earlier groups at the above listed sites and the present-day Chumash people.

Determinations Made by the Fowler Museum at the University of California Los Angeles

Officials of the Fowler Museum at the University of the California Los Angeles have determined that:

• Pursuant to 25 U.S.C. 3001(9), the human remains described in this notice represent the physical remains of seven individuals of Native American ancestry.

• Pursuant to 25 U.S.C. 3001(3)(A), the 78 objects described in this notice are reasonably believed to have been placed with or near individual human remains at the time of death or later as part of the death rite or ceremony.

• Pursuant to 25 U.S.C. 3001(2), there is a relationship of shared group identity that can be reasonably traced between the Native American human remains and associated funerary objects and the Santa Ynez Band of Chumash Mission Indians of the Santa Ynez Reservation, California.

Additional Requestors and Disposition

Lineal descendants or representatives of any Indian Tribe or Native Hawaiian organization not identified in this notice that wish to request transfer of control of these human remains and associated funerary objects should submit a written request with information in support of the request to Wendy G Teeter, Ph.D., Fowler Museum at UCLA, Box 951549, Los Angeles, CA 90095-1549, telephone (310) 825-1864, email wteeter@arts.ucla.edu, by August 18, 2021. After that date, if no additional requestors have come forward, transfer of control of the human remains and associated funerary objects to the Santa Ynez Band of Chumash Mission Indians of the Santa Ynez Reservation, California may proceed.

The Fowler Museum at the University of the California Los Angeles is responsible for notifying The Consulted Tribes and Groups that this notice has been published.

Dated: July 7, 2021.
Melanie O'Brien,
Manager, National NAGPRA Program.

[FR Doc. 2021-15252 Filed 7-16-21; 8:45 am]

BILLING CODE 4312-52-P